DEPARTMENT OF LABOR

Employment and Training Administration

[TA-W-73,441A]

Quad Tech, Inc., Sussex, WI; Notice of Affirmative Determination Regarding Application for Reconsideration

By application dated February 7, 2011, a worker requested administrative reconsideration of the negative determination regarding workers' eligibility to apply for Trade Adjustment Assistance (TAA) applicable to workers and former workers of Quad Tech, Inc., Sussex, Wisconsin (TA-W-73,441A) (subject firm). The determination was issued on January 4, 2011. The Department's Notice of Determination was published in the Federal Register on January 26, 2011 (76 FR 4729). The workers are engaged in activities related to the production of magazines and catalogs. Specifically, the workers of the subject firm provide steel stackers and equipment for printers to affiliated locations.

The negative determination was based on the Department's findings that, with regards to workers covered by TA-W-73,441A, Quad Graphics did not shift to or acquire from a foreign country the production of articles like or directly competitive with those produced by the subject workers; that there were no increased imports of articles like or directly competitive with those produced by the subject firm during the relevant period; and that the workers are not adversely-affected secondary workers.

In the request for reconsideration, the petitioner alleged that “work here decreased from work being sent elsewhere (India)” and “shift from our firm to India with silo work.”

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 17th day of February 2011.
Del Min Amy Chen,
Certifying Officer, Office of Trade Adjustment Assistance.

[FR Doc. 2011-5932 Filed 3-14-11; 8:45 am]

BILLING CODE 4510-FN-P